DEPARTMENT OF ENERGY

Federal Energy Regulatory Commission

[Docket No. EG01-83-000]

AES Medina Valley Cogen, L.L.C.; Notice of Application for Commission Determination of Exempt Wholesale Generator Status

January 2, 2001.

Take notice that on December 22, 2000, AES Medina Valley Cogen, L.L.C., with its principal office located at 1823 Neal Lane, Mossville, Illinois 61552, filed with the Federal Energy Regulatory Commission an application for determination of exempt wholesale generator status pursuant to Part 365 of the Commission's regulations.

Pursuant to a Tolling Agreement (Agreement) to be entered into by AES Medina Valley and Central Illinois Light Company (“CILCO”), AES Medina Valley will build, own, operate and maintain an approximately 40 MW (net) combined cycle gas cogeneration facility in Mossville, Illinois (Facility). The Facility will be connected at 13.8 kV to a substation owned by CILCO to deliver electric energy, and will provide steam heat service and chilled water service to CILCO for resale. The provision of steam heat service and chilled water service will be incidental to AES Medina Valley's EWG activities. CILCO will provide gas and water to the Facility. Contemporaneously with this Application, AES Medina Valley is filing the Agreement with the Commission pursuant to Section 205 of the Federal Power Act, and with the Illinois Commerce Commission (“ICC”) for approvals pursuant to their respective jurisdictional authority. AES Medina Valley is also requesting ICC approvals as required by the applicable provisions of the Public Utility Holding Company Act.

Any person desiring to be heard concerning the application for exempt wholesale generator status should file a motion to intervene or comments with the Federal Energy Regulatory Commission, 888 First Street, NE., Washington, DC 20426, in accordance with Rules 211 and 214 of the Commission's Rules of Practice and Procedure (18 CFR 385.211 and 385.214). The Commission will limit its consideration of comments to those that concern the adequacy or accuracy of the application. All such motions and comments should be filed on or before January 23, 2001, and must be served on the applicant. Any person wishing to become a party must file a motion to intervene. Copies of this filing are on file with the Commission and are available for public inspection or on the Internet at http://www.ferc.fed.us/online/rims.htm (please call (202) 208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-646 Filed 1-9-01; 8:45 am]

BILLING CODE 6717-01-M